DEPARTMENT OF COMMERCE

International Trade Administration

[C-580-818]

Corrosion-Resistant Carbon Steel Flat Products from the Republic of Korea: Final Results of Countervailing Duty Administrative Review

AGENCY: Import Administration, International Trade Administration, Department of Commerce.

SUMMARY: On September 9, 2008, the U.S. Department of Commerce (“the Department”) published in the Federal Register its preliminary results of the administrative review of the countervailing duty (“CVD”) order on corrosion-resistant carbon steel flat products (“CORE”) from the Republic of Korea (“Korea”) for the period of review (“POR”) January 1, 2006, through December 31, 2006. See Corrosion-Resistant Carbon Steel Flat Products From the Republic of Korea: Preliminary Results of Countervailing Duty Administrative Review. 73 FR 52315 (September 9, 2008) (“Preliminary Results”). We preliminarily found that Pohang Iron and Steel Co. Ltd. (“POSCO”) and Dongbu Steel Co., Ltd. (“Dongbu”) received de minimis countervailable subsidies during the POR. We received comments on our preliminary results from POSCO, a respondent company. The final results are listed in the section “Final Results of Review” below.

EFFECTIVE DATE: January 15, 2009.

FOR FURTHER INFORMATION CONTACT: Robert Copyak or Gayle Longest, AD/CVD Operations, Office 3, Import Administration, International Trade Administration, U.S. Department of Commerce, Room 4014, 14th Street and Constitution Ave., NW, Washington, DC 20230; telephone: (202) 482-2209 and (202) 482-3338, respectively.

SUPPLEMENTARY INFORMATION:

Background

On August 17, 1993, the Department published in the Federal Register the CVD order on CORE from Korea. See Countervailing Duty Orders and Amendments of Final Affirmative Countervailing Duty Determinations: Certain Steel Products from Korea, 58 FR 43752 (August 17, 1993). On September 9, 2008, the Department published in the Federal Register its preliminary results of the administrative review of this order for the period January 1, 2006, through December 31, 2006. See Preliminary Results, 73 FR 52315. In accordance with 19 CFR 351.213(b), this administrative review covers POSCO and Dongbu, producers and exporters of subject merchandise.

In the Preliminary Results, we invited interested parties to submit briefs or request a hearing. We received comments from POSCO, a respondent. We received no comments from United States Steel Corporation and Nucor Corporation, (“petitioners”), or Dongbu. The Department did not conduct a hearing in this review because none was requested.

Scope of Order

Products covered by this order are certain corrosion-resistant carbon steel flat products from Korea. These products include flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness. The merchandise subject to this order is currently classifiable in the Harmonized Tariff Schedule of the United States (HTSUS) at subheadings: 7210.30.0000, 7210.31.0000, 7210.39.0000, 7210.41.0000, 7210.49.0030, 7210.49.0090, 7210.60.0000, 7210.61.0000, 7210.70.6030, 7210.70.6060, 7210.70.6090, 7210.90.1000, 7210.90.6000, 7210.90.9000, 7212.20.0000, 7212.21.0000, 7212.29.0000, 7212.30.1030, 7212.30.1090, 7212.30.3000, 7212.30.5000, 7212.40.1000, 7212.40.5000, 7212.50.0000, 7212.60.0000, 7215.90.1000, 7215.9030, 7215.90.5000, 7217.12.1000, 7217.13.1000, 7217.19.1000, 7217.19.5000, 7217.20.1500, 7217.22.5000, 7217.23.5000, 7217.29.1000, 7217.29.5000, 7217.30.15.0000, 7217.32.5000, 7217.33.5000, 7217.39.1000, 7217.39.5000, 7217.90.1000 and 7217.90.5000. Although the HTSUS subheadings are provided for convenience and customs purposes, the Department's written description of the merchandise is dispositive.

Period of Review

The POR for which we are measuring subsidies is from January 1, 2006, through December 31, 2006.

Analysis of Comments

On October 9, 2008, POSCO filed comments. Neither Dongbu nor petitioners filed a case brief or a rebuttal brief. All issues in POSCO's case brief are addressed in the accompanying Issues and Decision Memorandum for the Countervailing Duty Administrative Review on Corrosion-Resistant carbon Steel Flat Products from Korea (“Decision Memorandum”), issued concurrently and hereby adopted by this notice. A listing of the issues that parties raised and to which we have responded is attached to this notice as Appendix I. Parties can find a complete discussion of the issues raised in this review and the corresponding recommendations in this public memorandum, which is on file in the Central Records Unit (“CRU”), Room 1117 of the main Commerce building. In addition, a complete version of the Decision Memorandum, can be accessed directly on the World Wide Web at http://ia.ita.doc.gov. The paper copy and the electronic version of the Decision Memorandum are identical in content.

Final Results of Review

After reviewing POSCO's comments, we have not changed our findings from the Preliminary Results as explained in our Decision Memorandum. Consistent with the Preliminary Results, we find that POSCO and Dongbu received de minimis countervailable subsidies during the POR at the rates below:

Company | Net Subsidy Rate
Pohang Iron and Steel Co. Ltd. (POSCO) | 0.09 percent ad valorem (de minimis)
Dongbu Steel Co. Ltd. (Dongbu) | 0.22 percent ad valorem (de minimis)

Assessment Rates/Cash Deposits

The Department intends to issue assessment instructions to U.S. Customs and Border Protection (“CBP”) 15 days after the date of publication of these final results of review to liquidate shipments of subject merchandise by POSCO and Dongbu entered, or withdrawn from warehouse, for consumption on or after January 1, 2006, through December 31, 2006, without regard to countervailing duties. We will also instruct CBP not to collect cash deposits of estimated countervailing duties on shipments of the subject merchandise produced by POSCO and Dongbu, entered, or withdrawn from warehouse, for consumption on or after the date of publication of these final results of review.

For all non-reviewed companies, the Department has instructed CBP to assess countervailing duties at the cash deposit rates in effect at the time of entry, for entries between January 1, 2006, and December 31, 2006. The cash deposit rates for all companies not covered by this review are not changed by the results of this review.

Return or Destruction of Proprietary Information

This notice serves as a reminder to parties subject to administrative protective order (“APO”) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act and 19 CFR 351.221(b)(4).

Dated: January 7, 2009.
Ronald K. Lorentzen,
Acting Assistant Secretary for Import Administration.

Appendix I - Issues and Decision Memorandum

Company-Specific Issue

Whether Certain Research and Development (“R&D”) Grants Under the Industrial Development Act (“IDA”) Are Tied to Non-Subject Merchandise

[FR Doc. E9-633 Filed 1-14-09; 8:45 am]

BILLING CODE 3510-DS-S